DEPARTMENT OF HOMELAND SECURITY

Federal Emergency Management Agency

[Docket ID FEMA-2023-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP).

DATES: The date of January 11, 2024, has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Nicholas A. Shufro,
Deputy Assistant Administrator for Risk Management, Federal Emergency Management Agency, Department of Homeland Security.

Community | Community map repository address
Ouray County, Colorado and Incorporated Areas
Docket No.: FEMA-B-2281
City of Ouray | City Hall, 320 6th Avenue, Ouray, CO 81427.
Town of Ridgway | Town Hall, 201 North Railroad Street, Ridgway, CO 81432.
Unincorporated Areas of Ouray County | Ouray County Courthouse, 541 4th Street, Ouray, CO 81427.
Allen County, Indiana and Incorporated Areas
Docket No.: FEMA-B-2257
City of Woodburn | Allen County Department of Planning Services, 200 East Berry Street, Suite 150, Fort Wayne, IN 46802.
Town of Monroeville | Town Hall, 104 Allen Street, Monroeville, IN 46773.
Unincorporated Areas of Allen County | Allen County Department of Planning Services, 200 East Berry Street, Suite 150, Fort Wayne, IN 46802.
Morrow County, Ohio and Incorporated Areas
Docket No.: FEMA-B-2277
Unincorporated Areas of Morrow County | Morrow County Planning and Zoning Office, 80 North Walnut Street, Suite C, Mt. Gilead, OH 43338.
Johnston County, Oklahoma and Incorporated Areas
Docket No.: FEMA-B-2217
City of Tishomingo | City Hall, 1130 East Main Street, Tishomingo, OK 73460.
Town of Mannsville | Town Hall, 103 South 18th Street, Mannsville, OK 73447.
Town of Milburn | City Hall, 101 Main Street, Milburn, OK 73450.
Town of Mill Creek | Town Hall, 105 East Main Street, Mill Creek, OK 74856.
Town of Ravia | Town Hall Complex, 109 East Grand Avenue, Ravia, OK 73455.
Town of Wapanucka | City Hall, 211 South Choctaw Avenue, Wapanucka, OK 73461.
Unincorporated Areas of Johnston County | Johnston County Commissioner's Office, 705 West Main Street, Tishomingo, OK 73460.
Murray County, Oklahoma and Incorporated Areas
Docket No.: FEMA-B-2217
City of Davis | City Hall, 227 East Main Street, Davis, OK 73030.
City of Sulphur | City Hall, 600 West Broadway Avenue, Sulphur, OK 73086.
Town of Dougherty | Murray County Courthouse, 1001 West Wyandotte Avenue, Sulphur, OK 73086.
Unincorporated Areas of Murray County | Murray County Courthouse, 1001 West Wyandotte Avenue, Sulphur, OK 73086.
Clark County, South Dakota and Incorporated Areas
Docket No.: FEMA-B-2273
City of Clark | City Hall, 120 North Commercial Street, Clark, SD 57225.
Town of Raymond | Fire Department, 201 Flower Street, Raymond, SD 57258.
Town of Willow Lake | Fire Hall, 211 Garfield Avenue, Willow Lake, SD 57278.
Unincorporated Areas of Clark County | Clark County Registrar's Office, 200 North Commercial Street, Clark, SD 57225.
City of Alexandria, Virginia (Independent City)
Docket No.: FEMA-B-2134 and B-2271
City of Alexandria | City Hall, 301 King Street, Alexandria, VA 22314.
City of Colonial Heights, Virginia (Independent City)
Docket No.: FEMA-B-2160 and B-2271
City of Colonial Heights | Department of Planning and Community Development, 201 James Avenue, Colonial Heights, VA 23834.
Pulaski County, Virginia and Incorporated Areas
Docket No.: FEMA-B-2032 and B-2271
Town of Pulaski | Municipal Building, 42 1st Street Northwest, Pulaski, VA 24301.
Unincorporated Areas of Pulaski County | Pulaski County Administration Building, 143 3rd Street Northwest, Suite 1, Pulaski, VA 24301.
Racine County, Wisconsin and Incorporated Areas
Docket No.: FEMA-B-2267
City of Burlington | City Hall, 300 North Pine Street, Burlington, WI 53105.
City of Racine | City Hall, 730 Washington Avenue, Racine, WI 53403.
Unincorporated Areas of Racine County | Ives Grove Office Complex, 14200 Washington Avenue, Sturtevant, WI 53177.
Village of Caledonia | Caledonia Village Hall, 5043 Chester Lane, Racine, WI 53402.
Village of Mount Pleasant | Village Hall, 8811 Campus Drive, Mount Pleasant, WI 53406.
Village of North Bay | North Bay Village Hall, 3615 Hennepin Place, Racine, WI 53402.
Village of Rochester | Village Hall, 300 West Spring Street, Rochester, WI 53167.
Village of Waterford | Village Hall, 123 North River Street, Waterford, WI 53185.
Village of Wind Point | Wind Point Village Office, 215 East Four Mile Road, Racine, WI 53402.

[FR Doc. 2023-18971 Filed 8-31-23; 8:45 am]

BILLING CODE 9110-12-P